DEPARTMENT OF TRANSPORTATION

Federal Aviation Administration

14 CFR Part 71

[Docket No. FAA-2023-1352; Airspace Docket No. 23-ASO-24]

RIN 2120-AA66

Amendment of Class D and Class E Airspace; Columbus, MS

AGENCY: Federal Aviation Administration (FAA), DOT.

ACTION: Final rule; correction.

SUMMARY: A final rule was published in the Federal Register on June 30, 2023, amending Class D airspace, Class E surface airspace, and Class E airspace extending upward from 700 feet above the surface for Golden Triangle Regional Airport, Columbus, MS, by updating the airport's description header and geographic coordinates, as well as the geographic coordinates of Columbus AFB, Columbus-Lowndes County Airport, Oktibbeha Airport, and McCharen Field. This action corrects the Class E airspace extending upward from 700 feet above the surface description by correcting the geographic coordinates of Oktibbeha Airport.

DATES: Effective 0901 UTC, October 5, 2023. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

History

The FAA published a final rule in the Federal Register (88 FR 42227, June 30, 2023) for Doc. No. FAA-2023-1352, updating the geographic coordinates of Golden Triangle Regional Airport, Columbus AFB, Columbus-Lowndes County Airport, Oktibbeha Airport, and McCharen Field. After publication, the FAA found the geographic coordinates for Oktibbeha Airport were inadvertently transposed. This action corrects this error.

Correction to the Final Rule

Pursuant to the authority delegated to me, the amendment of Class E airspace extending upward from 700 feet above the surface for Columbus, MS, in Docket No. FAA-2023-1352, as published in the Federal Register on June 30, 2023 (88 FR 42227), is corrected as follows:

§ 71.1 [Corrected]

1. On page 42228, in the second column, correct the geographic coordinates for Oktibbeha Airport to read:

(Lat 33°29′52″ N, long 88°40′53″ W)

Issued in College Park, Georgia, on August 2, 2023.
Andreese C. Davis,
Manager Airspace & Procedures Team South, Eastern Service Center, Air Traffic Organization.

[FR Doc. 2023-16761 Filed 8-9-23; 8:45 am]

BILLING CODE 4910-13-P